DEPARTMENT OF THE INTERIOR

Bureau of Indian Affairs

[156A2100DD/AAKC001030/A0A501010.999900 253G]

Indian Gaming

AGENCY: Bureau of Indian Affairs, Interior.

ACTION: Notice of approved Tribal-State Class III gaming compact; correction.

SUMMARY: The Bureau of Indian Affairs (BIA) published a notice in the Federal Register of June 4, 2015 (80 FR 31918), containing a list of approved Tribal-State Class III gaming compacts. The notice contained incorrect spellings for two tribes.

DATES: Effective Date: June 4, 2015.

FOR FURTHER INFORMATION CONTACT: Ms. Paula L. Hart, Director, Office of Indian Gaming, Office of the Deputy Assistant Secretary—Policy and Economic Development, Washington, DC 20240, (202) 219-4066.

SUPPLEMENTARY INFORMATION:

Correction

In the Federal Register of June 4, 2015 (80 FR 31918), in FR Doc. 2015-13712, on page 31918, in the third column, correct the SUMMARY caption to read:

SUMMARY: This notice publishes the approval of the Amendment to the compacts between the Confederated Tribes of the Chehalis Reservation, Confederated Tribes of the Colville Reservation, Cowlitz Indian Tribe, Hoh Indian Tribe, Jamestown S'Klallam Tribe, Kalispel Indian Community of the Kalispel Reservation, Lower Elwha Tribal Community, Lummi Tribe of the Lummi Reservation, Makah Indian Tribe of the Makah Reservation, Nisqually Indian Tribe, Port Gamble S'Klallam Tribe, Quileute Tribe of the Quileute Reservation, Quinault Indian Nation, Samish Indian Nation, Sauk Suiattle Indian Tribe, Shoalwater Bay Indian Tribe of the Shoalwater Bay Indian Reservation, Skokomish Indian Tribe, Snoqualmie Indian Tribe, Spokane Tribe of the Spokane Reservation, Squaxin Island Tribe of the Squaxin Island Reservation, Stillaguamish Tribe of Indians of Washington, Suquamish Indian Tribe of the Port Madison Reservation, Swinomish Indian Tribal Community, Tulalip Tribes of Washington, Upper Skagit Indian Tribe, Confederated Tribes and Bands of the Yakama Nation, and the State of Washington governing Class III gaming (Compact).

Dated: June 23, 2015.
Kevin K. Washburn,
Assistant Secretary—Indian Affairs.

[FR Doc. 2015-16035 Filed 6-29-15; 8:45 am]

BILLING CODE 4337-15-P